DEPARTMENT OF THE TREASURY

Alcohol and Tobacco Tax and Trade Bureau

[Docket No. TTB-2015-0001]

Proposed Information Collections; Comment Request (No. 50)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before March 23, 2015.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2015-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 200-E, Washington, DC 20005.

Please submit separate comments for each specific information collection listed in this document. You must reference the information collection's title, form or recordkeeping requirement number, and OMB number (if any) in your comment.

You may view copies of this document, the information collections listed in it and any associated instructions, and all comments received in response to this document within Docket No. TTB-2015-0001 at http://www.regulations.gov. A link to that docket is posted on the TTB Web site at http://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

OMB Control Number: 1513-0007.

TTB Form Numbers: TTB F 5130.9 and TTB F 5130.26.

Abstract: The Internal Revenue Code (IRC) requires brewers to file periodic reports of their brewing and associated operations. Brewers that anticipate an annual tax liability of $50,000 or more with respect to beer must use TTB F 5130.9 to file monthly operational reports. Brewers that reasonably expect to be liable for not more than $50,000 in taxes with respect to beer in the preceding calendar year and during the current calendar year may use either TTB F 5130.9 or the simplified TTB F 5130.26 to file quarterly operational reports. TTB uses these reports to determine whether the brewer's operations are in compliance with the requirements of Federal law and regulations. We also use this information to assist us in determining whether the brewer pays the proper Federal excise taxes in a timely and accurate manner.

Current Actions: We are submitting this information collection as a revision of this collection as last approved by OMB for six months in October 2014. We are removing from this information collection older versions of TTB F 5130.9 and TTB F 5130.26 used by brewers to report operational activities that occurred prior to 2015, and we are retaining the revised versions of TTB F 5130.9 and TTB F 5130.26 that brewers will use to report operational activities occurring on and after January 1, 2015. In addition, we are revising the number of respondents and the total annual burden hours to reflect an increase in the number of respondents.

Type of Review: Revision of a currently approved collection.

Affected Public: Businesses or other for-profits.

Estimated Number of Respondents: 3,200.

Estimated Total Annual Burden Hours: 12,636.

Title: Application and Permit To Ship Liquors and Articles of Puerto Rican Manufacture Taxpaid to the United States.

OMB Number: 1513-0008.

TTB Form Number: TTB F 5170.7.

Abstract: Industry members use TTB F 5170.7 to document the shipment of taxpaid Puerto Rican distilled spirits and other alcohol products to the United States. Puerto Rican and U.S. Treasury Department officials review the form to certify that the products are either taxpaid or tax deferred under appropriate bond. This serves as a method of protecting the revenue.

Current Actions: TTB is submitting this information collection for extension purposes only. The information collection, estimated number of respondents, and the estimated total annual burden hours remain unchanged.

Type of Review: Extension of a currently approved collection.

Affected Public: Businesses or other for-profits.

Estimated Number of Respondents: 20.

Estimated Total Annual Burden Hours: 100.

Title: Withdrawal of Spirits, Specially Denatured Spirits, or Wines for Exportation.

OMB Number: 1513-0037.

TTB Form Number: TTB F 5100.11.

Abstract: Exporters complete TTB F 5100.11 to report the withdrawal of spirits, denatured spirits, and wines from internal revenue bonded premises, without payment of tax, for direct exportation, for transfer to a foreign trade zone, Customs manufacturer's bonded warehouse or Customs bonded warehouse, or for use as supplies on vessels or aircraft.

Current Actions: TTB is submitting this information collection as a revision. The data collected on the form remains unchanged. However, we are clarifying the form's instructions for Item 1. Also, we are updating the number of respondents and the total annual burden hours to reflect a decrease in the number of respondents and a decrease in the time that it takes to complete the form.

Type of Review: Revision of a currently approved collection.

Affected Public: Businesses or other for-profits.

Estimated Number of Respondents: 150.

Estimated Total Annual Burden Hours: 1,500.

Title: Application for Operating Permit Under 26 U.S.C. 5171(d).

OMB Number: 1513-0040.

TTB Form Number: TTB F 5110.25.

Abstract: Applicants that wish to engage in the production, warehousing, or bottling of alcohol for industrial use, or that wish to warehouse bulk distilled spirits for non-industrial use without bottling, use TTB F 5110.25 to apply for an operating permit, as required by the Internal Revenue Code at 26 U.S.C. 5171(d). TTB National Revenue Center personnel use the information provided on this form to identify the applicant, the location of the business, the types of activities to be conducted, and the qualifications of the applicant.

Current Actions: TTB is submitting this collection as a revision. The form remains unchanged. However, we are updating the number of respondents and the total annual burden hours to reflect an increase in the number of respondents.

Type of Review: Revision of a currently approved collection.

Affected Public: Businesses or other for-profits.

Estimated Number of Respondents: 100.

Estimated Total Annual Burden Hours: 25.

Title: Drawback on Distilled Spirits Exported.

OMB Number: 1513-0042.

TTB Form Numbers: TTB F 5110.30.

Abstract: Persons who export distilled spirits use TTB F 5110.30 to claim a drawback of the Federal alcohol excise taxes already paid in the United States. The form describes the claimant, the tax-paid spirits export, the amount of tax to be refunded, and a certification by the U.S. Government agent attesting to exportation.

Current Actions: TTB is submitting this collection as a revision. The form remains unchanged. However, we are updating the number of respondents and the total annual burden hours to reflect a decrease in the number of responses.

Type of Review: Revision of a currently approved collection.

Affected Public: Businesses or other for-profits.

Estimated Number of Respondents: 50.

Estimated Total Annual Burden Hours: 1,200.

Title: Application and Permit To Ship Puerto Rican Spirits to the United States Without Payment of Tax.

OMB Number: 1513-0043.

TTB Form Numbers: TTB F 5110.31.

Abstract: TTB F 5110.31 is used by industry members to ship Puerto Rican distilled spirits in bulk into the United States without payment of tax. The form identifies the person in Puerto Rico shipping the spirits, from where shipments are to be made, the person in the U.S. receiving the spirits, and the amount of spirits to be shipped.

Current Actions: TTB is submitting this information collection for extension purposes only. The information collection, estimated number of respondents, and the estimated total annual burden hours remain unchanged.

Type of Review: Extension of a currently approved collection.

Affected Public: Businesses or other for-profits.

Estimated Number of Respondents: 20.

Estimated Total Annual Burden Hours: 750.

Angela Jeffries,
Acting Director, Regulations and Rulings Division.

[FR Doc. 2015-00857 Filed 1-20-15; 8:45 am]

BILLING CODE 4810-31-P